DEPARTMENT OF THE TREASURY

Internal Revenue Service

Credit for Renewable Electricity Production and Publication of Inflation Adjustment Factor and Reference Price for Calendar Year 2022; Correction

AGENCY: Internal Revenue Service (IRS), Treasury.

ACTION: Correction notice.

SUMMARY: This document contains corrections to a publication of the inflation adjustment factor and reference price for calendar year 2022 as required by section 45(e)(2)(A) of the Internal Revenue Code that was published in the Federal Register on April 14, 2022. The 2022 inflation adjustment factor and reference price are used in determining the availability of the credit for renewable electricity production.

FOR FURTHER INFORMATION CONTACT: Charles Hyde, CC:PSI:6, Internal Revenue Service, 1111 Constitution Avenue NW, Washington, DC 20224, (202) 317-6853 (not a toll-free number).

SUPPLEMENTARY INFORMATION:

Background

The publication of the inflation adjustment factor and reference price for calendar year 2022 as required by section 45(e)(2)(A) of the Internal Revenue Code (26 U.S.C. 45(e)(2)(A)) that is the subject of this correction is under section 45 of the Internal Revenue Code.

Need for Correction

As published, the notice of the publication of the inflation adjustment factor and reference price for calendar year 2022 as required by section 45(e)(2)(A) of the Internal Revenue Code (26 U.S.C. 45(e)(2)(A)) contains errors that may prove to be misleading and are in need of clarification.

Correction of Publication

Accordingly, the publication of the inflation adjustment factor and reference price for calendar year 2022 as required by section 45(e)(2)(A) of the Internal Revenue Code (26 U.S.C. 45(e)(2)(A)), that is the subject of FR Doc. 2022-07967, is corrected as follows:

On Page 22286, column 1, under the title “Inflation Adjustment Factor”, the last line of the paragraph, the language “is 1.8012.” is corrected to read “is 1.7593.”.

On Page 22286, column 2, line 6 from the top of the page, the language “factor (1.8012), the phaseout of the” is corrected to read “factor (1.7593), the phaseout of the”.

On Page 22286, column 2, under the title “Credit Amount by Qualified Energy Resource and Facility”, line 11 from the bottom of the paragraph, the language “is 2.7 cents per kilowatt hour on the sale” is corrected to read “is 2.6 cents per kilowatt hour on the sale”.

On Page 22286, column 2, under the title “Credit Amount by Qualified Energy Resource and Facility”, line 7 from the bottom of the paragraph, the language “energy, and 1.4 cents per kilowatt hour” is corrected to read “energy, and 1.3 cents per kilowatt hour”.

Oluwafunmilayo A. Taylor,
Branch Chief, Publications and Regulations Branch, Legal Processing Division, Associate Chief Counsel, (Procedure and Administration).

[FR Doc. 2022-09695 Filed 5-5-22; 8:45 am]

BILLING CODE 4830-01-P